INTERNATIONAL TRADE COMMISSION

[Investigation Nos. 701-TA-650-651 (Final) (Remand)]

Phosphate Fertilizers From Morocco and Russia

AGENCY: International Trade Commission.

ACTION: Notice of Remand Proceedings.

SUMMARY: The U.S. International Trade Commission (“Commission”) hereby gives notice of the procedures it intends to follow to comply with the court-ordered remand of its final determinations in the countervailing duty investigations of phosphate fertilizers from Morocco and Russia. For further information concerning the conduct of these remand proceedings and rules of general application, consult the Commission's Rules of Practice and Procedure.

DATES: October 23, 2020.

FOR FURTHER INFORMATION CONTACT: Calvin Chang ((202) 205-3062), Office of Investigations, or Courtney McNamara ((202) 205-3095), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for Investigation Nos. 701-TA-650-651 (Final) may be viewed on the Commission's electronic docket (EDIS) at https://edis.usitc.gov.

SUPPLEMENTARY INFORMATION:

Background.—In March 2021, the Commission determined that an industry in the United States was materially injured by reason of imports of phosphate fertilizers that were found to be subsidized by the governments of Morocco and Russia.¹ Phosphate Fertilizers from Morocco and Russia, Investigation Nos. 701-TA-650-651 (Final), USITC Pub. 5172 (March 2021). Several respondent parties contested the Commission's determinations in two separate actions, which were later consolidated, before the U.S. Court of International Trade (“CIT”). The CIT remanded for reconsideration the Commission's factual finding regarding the feasibility of reshipment of phosphate fertilizer from one destination to another. OCP S.A. v. United States, Consolidated Court No. 21-00219, Slip Op. 23-136 (Ct. Int'l Trade, September 19, 2023).

¹ Commissioner David S. Johanson dissented.

Participation in the remand proceedings.—Only those persons who were interested parties that participated in the investigations (i.e., persons listed on the Commission Secretary's service list) and were also parties to the appeal may participate in the remand proceedings. Such persons need not file any additional appearances with the Commission to participate in the remand proceedings, unless they are adding new individuals to the list of persons entitled to receive business proprietary information (“BPI”) under administrative protective order. BPI referred to during the remand proceedings will be governed, as appropriate, by the administrative protective order issued in the investigations. The Secretary will maintain a service list containing the names and addresses of all persons or their representatives who are parties to the remand proceedings, and the Secretary will maintain a separate list of those authorized to receive BPI under the administrative protective order during the remand proceedings.

Written submissions.—The Commission is reopening the record in these proceedings for the limited purpose of issuing a short supplemental questionnaire to U.S. producers and U.S. importers. The Commission is otherwise not reopening the record for the collection of new factual information. The Commission will make available any new factual information obtained during the remand proceedings not already served to the parties in the investigations (as identified by the public of BPI service list). The Commission will permit the parties to file written comments limited to addressing new factual information obtained during the remand proceedings and how the Commission could best comply with the Court's remand instructions.

The comments must be based solely on the information in the Commission's record. The Commission will reject submissions containing additional factual information or arguments pertaining to issues other those defined above. The deadline for filing comments is November 27, 2023. Comments must be limited to a total of twenty-five (25) double-spaced and single-sided pages of textual material for domestic interested parties, inclusive of attachments and exhibits; and a total of twenty-five (25) double-spaced and single-sided pages of textual material for respondent interested parties, inclusive of attachments and exhibits.

Parties are advised to consult with the Commission's Rules of Practice and Procedure, part 201, subparts A through E (19 CFR part 201), and part 207, subpart A (19 CFR part 207) for provisions of general applicability concerning written submissions to the Commission. All written submissions must conform to the provisions of section 201.8 of the Commission's rules; any submissions that contain BPI must also conform with the requirements of sections 201.6, 207.3, and 207.7 of the Commission's rules. Please note the Secretary's Office will accept only electronic filings at this time. Filings must be made through the Commission's Electronic Document Information System (EDIS, https://edis.usitc.gov). No in-person paper-based filings or paper copies of any electronic filings will be accepted until further notice. The Commission's Handbook on E-Filing, available on the Commission's website at http://edis.usitc.gov, elaborates upon the Commission's rules with respect to electronic filing.

Additional written submissions to the Commission, including requests pursuant to section 201.12 of the Commission's rules, will not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: October 24, 2023.
Lisa Barton,
Secretary to the Commission.

[FR Doc. 2023-23774 Filed 10-26-23; 8:45 am]

BILLING CODE 7020-02-P